DEPARTMENT OF COMMERCE

International Trade Administration

[A-580-874]

Certain Steel Nails From the Republic of Korea: Final Results of Antidumping Duty Administrative Review; 2019-2020; Correction

AGENCY: Enforcement and Compliance, International Trade Administration, Department of Commerce.

ACTION: Notice; correction.

SUMMARY: The Department of Commerce (Commerce) published notice in the Federal Register of January 20, 2022, in which Commerce announced the final results of the 2019-2020 administrative review of the antidumping duty (AD) order on certain steel nails from the Republic of Korea (Korea). This notice was a duplicate for a notice published on January 19, 2022, in which Commerce announced the final results of the 2019-2020 administrative review of the AD order on certain steel nails from Korea.

FOR FURTHER INFORMATION CONTACT: Eva Kim, AD/CVD Operations, Office IV, Enforcement and Compliance, International Trade Administration, U.S. Department of Commerce, 1401 Constitution Avenue NW, Washington, DC 20230; telephone: (202) 482-8283.

SUPPLEMENTARY INFORMATION:

Correction

In the Federal Register of January 20, 2022, the FR Doc 2022-01038 is a duplicate to the notice published on January 19, 2022, FR Doc 2022-00957.

Background

On January 20, 2022, Commerce published in the Federal Register the final results of the 2019-2020 administrative reviews of the AD order on certain steel nails from Korea.¹ This was a duplicate notice from the January 19, 2022, notice published in the Federal Register announcing the final results of the 2019-2020 administrative reviews of the AD order on certain steel nails from Korea.² The controlling notice is the original January 19, 2022, notice. The inadvertent duplicate publication of this notice does not constitute redetermination of this proceeding. This notice serves as a notification of, and correction to, this inadvertent duplicate publication.

¹ See Certain Steel Nails From the Republic of Korea: Final Results of Antidumping Duty Administrative Review; 2019-2020, 87 FR 3079 (January 20, 2022).

² See Certain Steel Nails From the Republic of Korea: Final Results of Antidumping Duty Administrative Review: 2019-2020, 87 FR 2763 (January 19, 2022).

Notification to Interested Parties

This notice is issued and published in accordance with section 751(a) of the Tariff Act of 1930, as amended.

Dated: January 28, 2022.
Lisa W. Wang,
Assistant Secretary for Enforcement and Compliance.

[FR Doc. 2022-02274 Filed 2-2-22; 8:45 am]

BILLING CODE 3510-DS-P